DEPARTMENT OF THE INTERIOR

U.S. Geological Survey

[USGS-GX15GL00DT7ST00]

Agency Information Collection Activities: Request for Comments

AGENCY: U.S. Geological Survey (USGS), Interior.

ACTION: Notice of a revision of a currently approved information collection (1028-0087).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on September 30, 2015.

DATES: To ensure that your comments are considered, we must receive them on or before May 26, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0087, `National Geological and Geophysical Data Preservation Program' in all correspondence.

FOR FURTHER INFORMATION CONTACT: Betty Adrian at (303) 202-4828 or by mail at U.S. Geological Survey, Box 25046, MS 975, Denver Federal Center, Denver, CO 80225, or by email at badrian@usgs.gov.

SUPPLEMENTARY INFORMATION:

I. Abstract

Section 351 of the Energy Policy Act of 2005 directs the Secretary of the Interior, through the Director of the U.S. Geological Survey, as follows, “The Secretary shall carry out a National Geological and Geophysical Data Preservation Program in accordance with this section—

(1) To archive geologic, geophysical, and engineering data, maps, well logs, and samples;

(2) To provide a national catalog of such archival material; and

(3) To provide technical and financial assistance related to the archival material.”

The Plan outlines program goals and recommends implementation strategies. An action item in the plan is to “begin interactions with State geological surveys and other DOI agencies that maintain geological and geophysical data and samples to address their preservation and data rescue needs.” In response, the USGS is requesting each state that elects to participate in the program to:

(1) Inventory their current collections and data preservation needs to provide a snapshot of the diversity of scientific collections held, supported, or used by State geological surveys. This inventory of current collections will form the foundation of the National Catalog;

(2) Build the National Catalog by providing site-specific metadata for items in inventoried collections. Focus on site-specific sample data allows broad national coverage with content useful to a wide variety of users. The types of sites cataloged will be determined by the holdings of participating states; and

(3) In FY 2010 and beyond, depending on appropriations, states would be invited to propose projects that address other priorities identified in the Implementation Plan for the National Geological and Geophysical Data Preservation Program, including: (a) Digital infrastructure; (b) Metadata for items in data collections; and (c) Special data rescue needs.

Furthermore, annual data preservation priorities are provided in the Program Announcement as guidance for applicants to consider when submitting proposals. its inception in 2007, NGGDPP has awarded 44 states with $4,585,849 which, when matched or exceeded by the states, amounts to over $9M invested in the rescue and preservation efforts. This notice concerns the collection of information that is sufficient and relevant to evaluate and select proposals for funding. We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We intend to release the project abstracts and identify primary investigators for awarded/funded projects only.

II. Data

OMB Control Number: 1028-0087.

Form Number: NA.

Title: National Geological and Geophysical Data Preservation Program (NGGDPP)

Type of Request: Notice of an extension of a currently approved information collection (1028-0087).

Affected Public: All State Geological Surveys will have the opportunity to apply for matching Federal funds.

Respondent's Obligation: Voluntary, but necessary to receive benefits.

Frequency of Collection: Annually.

Estimated Total Number of Annual Responses: 34.

Estimated Time per Response: We estimate the public reporting burden averages 36 hours per response. This includes time (1) to write and review the proposal and submit it through www.grants.gov and (2) prepare and submit the final technical report.

Estimated Annual Burden Hours: 1224.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Betty M. Adrian,
Program Coordinator, National Geological and Geophysical Data Preservation Program.

[FR Doc. 2015-06682 Filed 3-23-15; 8:45 am]

BILLING CODE 4311-AM-P